DEPARTMENT OF TRANSPORTATION

Office of the Secretary

Notice of Applications for Certificates of Public Convenience and Necessity and Foreign Air Carrier Permits Filed Under Subpart B (formerly Subpart Q) During the Week Ending January 17, 2015

The following Applications for Certificates of Public Convenience and Necessity and Foreign Air Carrier Permits were filed under Subpart B (formerly Subpart Q) of the Department of Transportation's Procedural Regulations (See 14 CFR 302. 201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-0066.

Date Filed: January 14, 2015.

Due Date for Answers, Conforming Applications, or Motion to Modify Scope: Feburary 4, 2015.

Description: Application of Hainan Airlines Co., Ltd. (“Hainan Airlines”) requesting that the Department amend its foreign air carrier permit to enable Hainan Airlines to engage in scheduled air transportation of persons, property and mail between Shanghai, People's Republic of China (PVG), on the one hand, and Boston, Massachusetts (BOS), on the other hand. Hainan Airlines also requests exemption authority to the extent necessary so that it may exercise the rights requested in this application prior to the issuance of an amended foreign air carrier permit.

Barbara J. Hairston,
Supervisory Dockets Officer, Docket Operations, Federal Register Liaison.

[FR Doc. 2015-05625 Filed 3-11-15; 8:45 am]

BILLING CODE 4910-9X-P